ENVIRONMENTAL PROTECTION AGENCY

[OW-2003-0039; FRL-7928-3]

Agency Information Collection Activities; Submission to OMB for Review and Approval; Comment Request; BEACH Act Grant Program (Renewal), EPA ICR Number 2048.02, OMB Control Number 2040-0244

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on July 31, 2005. Under OMB regulations, the Agency may continue to conduct or sponsor the collection of information while this submission is pending at OMB. This ICR describes the nature of the information collection and its estimated burden and cost.

DATES: Additional comments may be submitted on or before July 27, 2005.

ADDRESSES: Submit your comments, referencing docket ID number OW-2003-0039, to (1) EPA online using EDOCKET (our preferred method), by e-mail to OW-Docket@epa.gov, or by mail to: EPA Docket Center, Environmental Protection Agency, Water Docket, (4101T), 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Lars Wilcut, Standards and Health Protection Division, Office of Science and Technology (4305T), Environmental Protection Agency, 1200 Pennsylvania Ave., NW., Washington, DC 20460; telephone number: (202) 566-0447; fax number: (202) 566-0409; e-mail address: wilcut.lars@epa.gov.

SUPPLEMENTARY INFORMATION: EPA has submitted the following ICR to OMB for review and approval according to the procedures prescribed in 5 CFR 1320.12. On February 22, 2005 (70 FR 8581), EPA sought comments on this ICR pursuant to 5 CFR 1320.8(d). EPA received no comments.

EPA has established a public docket for this ICR under Docket ID No. OW-2003-0039, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: BEACH Act Grant Program (Renewal).

Abstract: Congress passed the Beaches Environmental Assessment and Coastal Health (BEACH) Act in October 2000 to amend the Clean Water Act, in part by adding section 406, “Coastal Recreation Water Monitoring and Notification.” Section 406(b) authorizes EPA to make grants to States and local governments to develop and implement programs for monitoring and public notification for coastal recreation waters adjacent to beaches or similar points of access that are used by the public, if the State or local government satisfies the requirements of the BEACH Act.

Several of these requirements require a grant recipient to collect and submit information to EPA as a condition for receiving the grant. Section 406(b) requires a grant recipient to provide the factors that the state or local government uses to prioritize funds and a list of waters for which the grant funds will be used. Section 406(b) also requires that a grant recipient's program be consistent with the performance requirements set by EPA under section 406(a); EPA needs information from the grant recipients to determine if the monitoring and notification programs are consistent with these criteria. On July 19, 2002, EPA published the National Beach Guidance and Required Performance Criteria for Grants (67 FR 47540). Section 406(b) also requires that a grant recipient submit a report to EPA that describes the data collected as part of a monitoring and notification program and the actions taken to notify the public when water quality standards are exceeded. Section 406(c) requires a grant recipient to identify lists of coastal recreation waters, processes for States to delegate to local governments the responsibility for implementing a monitoring and notification program, and the content of the monitoring and notification program.

The information covered by this ICR is required of States and local governments that seek to obtain BEACH Act funding. It allows EPA to properly review State and local governments' monitoring and notification programs to determine if they are eligible for BEACH Act grant funding. This information also enables EPA to fulfill its obligations to make this information available to the public as required by sections 406(e) and (g).

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 2,374 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Information collected by EPA will be submitted by environmental and public health agencies in coastal and Great Lakes states, territories and authorized tribes.

Estimated Number of Respondents: 40.

Frequency of Response: Annually.

Estimated Total Annual Hour Burden: 94,947.

Estimated Total Annual Cost: $11,389,000, includes $3,750,000 annualized capital or O&M costs and $7,639,000 annual labor costs.

Changes in the Estimates: There is an increase of 25,192 hours in the total estimated burden currently identified in the OMB Inventory of Approved ICR Burdens. This increase is due to an adjustment to the estimates. The respondent average annual burden increased from 5,979 to 7,121 hours which represents a 19.1% increase and the total average annual number of respondents increased from 35 to 40 respondents. EPA used the higher number of respondents because the Agency expects several tribes to apply for BEACH Act Grants that had not done so during the original ICR period. The annual operation and maintenance costs for all respondents also increased from $473,040 to $3,749,760 for all states. This is because the estimated number of beaches monitored by grant recipients increased from 1,314 (estimated from the 2000 National Beaches Survey) to 3,472 (estimated from EPA's 2003 National List of Beaches), a 164.2% percent increase. In addition, EPA changed its estimate of the number of samples collected at each beach from one sample per week sample to two and changed the length of the beach season from 12 weeks to 18 weeks based on information that several state Beach Program contacts provided to EPA as the Agency was developing its initial assessment of burden.

EPA also revised the labor rates, which increased from $40.26 to $42.96 for a Managerial employee and from $26 to $30.03 for a Technical employee based on the average Bureau of Labor Statistics salaries for managerial and technical employees in state and local governments as shown in their September 2004 publication.

Several burden estimates for specific tasks under the performance criteria were also changed based on consultations with several of the respondents consulted in updating this ICR. The original estimates for these tasks were significantly lower than the actual burden reported by these respondents. These changes are summarized in Table 1.

Table 1.—Changes in State and Territory Burden Estimates from Original 2002 ICR
Performance criteria | State activity | Total annual burden (hours): Current ICR | Total annual burden (hours): Previous ICR | Change between current and previous ICR
1. Risk-based Beach Evaluation and Classification | Collect and submit beach lat/long coordinates (georeference beaches using maps, gps, etc.) | 200 | 20 | 180
| Identify bathing beaches and submit beach miles | 100 | 6 | 94
| Rank beaches | 103 | 13 | 90
2. Sampling Design and Monitoring Implementation Plan | Ensure data quality Train monitoring staff Create database and data submission process | 112 216 400 | 10 24 200 | 102 192 102
| Manage data for beach season | 200 | 108 | 102
| Program implementation and oversight | 240 | 48 | 200

Dated: June 20, 2005.
Oscar Morales,
Director, Collection Strategies Division.

[FR Doc. 05-12655 Filed 6-24-05; 8:45 am]

BILLING CODE 6560-50-P